DEPARTMENT OF THE TREASURY

Fiscal Service

Surety Companies Acceptable on Federal Bonds: Correction—Fidelity and Deposit Company of Maryland and Transatlantic Reinsurance Company

AGENCY: Financial Management Service, Fiscal Service, Department of the Treasury.

ACTION: Notice.

SUMMARY: This is Supplement No. 1 to the Treasury Department Circular 570; 2002 Revision, published July 1, 2002 at 67 FR 44293.

FOR FURTHER INFORMATION CONTACT: Surety Bond Branch at (202) 874-6507.

SUPPLEMENTARY INFORMATION: The underwriting limitation for Fidelity and Deposit Company of Maryland and Transatlantic Reinsurance Company which were last listed in Treasury Department Circular 570, July 1, 2002, revision, at 67 FR 44293 as $5,748,000 and $101,985,000 respectively, are hereby corrected to read $11,899,000 and $126,406,000 respectively, effective today.

Federal bond-approving officers should annotate their references copies of the Treasury Circular 570, 2002 Revision, to reflect this change.

The Circular may be viewed and downloaded through the Internet at http://www.fms.treas.gov/c570. A hard copy may be purchased from the Government Printing Office (GPO), Subscription Service, Washington, DC, telephone (202) 512-1800.

Questions concerning this notice may be directed to the U.S. Department of the Treasury, Financial Management Service, Financial Accounting and Services Division, Surety Bond Branch, 3700 East-West Highway, Room 6F07, Hyattsville, MD 20782.

Dated: July 3, 2002.
Wanda J. Rogers,
Director, Financial Accounting and Services Division, Financial Management Service.

[FR Doc. 02-17713 Filed 7-12-02; 8:45 am]

BILLING CODE 4810-35-M